DEPARTMENT OF HOMELAND SECURITY

[Docket No. DHS-2008-0074]

The Critical Infrastructure Partnership Advisory Council

AGENCY: National Protection and Programs Directorate, DHS.

ACTION: Notice of Critical Infrastructure Partnership Advisory Council (CIPAC) Meeting.

SUMMARY: The Critical Infrastructure Partnership Advisory Council will meet on July 30, 2008 in Washington, DC. The meeting will be open to the public.

DATES: The Critical Infrastructure Partnership Advisory Council will meet Wednesday, July 30, 2008 from 8:20 a.m. to 4 p.m. Please note that the meeting may adjourn early if the committee has completed its business. For additional information, please consult the CIPAC Web site, http://www.dhs.gov/cipac, or contact the CIPAC Secretariat by phone at 703-235-3999 or by e-mail at cipac@dhs.gov.

ADDRESSES: The meeting will be held in Salons III and IV of the Grand Ballroom of the J.W. Marriott, 1331 Pennsylvania Avenue, Washington, DC 20004. While we will be unable to accommodate oral comments from the public, written comments may be sent to Nancy Wong, Department of Homeland Security, National Protection and Programs Directorate, Washington, DC 20528. Comments must be identified by DHS-2008-0074 and may be submitted by one of the following methods:

• Federal eRulemaking Portal: http://www.regulations.gov. Follow the instructions for submitting comments.

• E-mail: cipac@dhs.gov. Include the docket number in the subject line of the message.

• Fax: 703-235-3055.

• Mail: Nancy Wong, Department of Homeland Security, National Protection and Programs Directorate, Washington, DC 20528.

Instructions: All submissions received must include the words “Department of Homeland Security” and the docket number for this action. Comments received will be posted without alteration at http://www.regulations.gov, including any personal information provided.

Docket: For access to the docket to read background documents or comments received by the Critical Infrastructure Partnership Advisory Council, go to http://www.regulations.gov.

FOR FURTHER INFORMATION CONTACT: Nancy Wong, CIPAC Designated Federal Officer, Department of Homeland Security, Washington, DC 20528; telephone 703-235-3999.

SUPPLEMENTARY INFORMATION: The Critical Infrastructure Partnership Advisory Council represents a partnership between government and critical infrastructure/key resource (CIKR) owners and operators and provides a forum in which they can engage in a broad spectrum of activities to support and coordinate critical infrastructure protection.

The Critical Infrastructure Partnership Advisory Council will meet to discuss issues relevant to the protection of critical infrastructure. The July 30, 2008 meeting will include panel discussions between participating CIKR Sectors regarding the following topics:

1. Asset-Based Infrastructure Protection.

2. Systems-Based Infrastructure Protection.

3. Cross-Sector Dependencies and Interdependencies.

4. Regional Implementation of the National Infrastructure Protection Plan.

Procedural

While this meeting is open to the public, participation in the Critical Infrastructure Partnership Advisory Council deliberations is limited to committee members, Department of Homeland Security officials, and persons invited to attend the meeting for special presentations.

Information on Services for Individuals With Disabilities

For information on facilities or services for individuals with disabilities or to request special assistance at the meeting, contact the CIPAC Secretariat at 703-235-3999 as soon as possible.

Dated: July 14, 2008.
Nancy Wong,
Designated Federal Officer for the CIPAC.

[FR Doc. E8-16659 Filed 7-21-08; 8:45 am]

BILLING CODE 4410-10-P